DEPARTMENT OF DEFENSE

Department of the Army

Availability for Non-Exclusive, Exclusive, or Partially Exclusive Licensing of U.S. Provisional Patent Application Concerning Battlefield Medical Information System-Telemedicine

AGENCY: Department of the Army, DoD.

ACTION: Notice.

SUMMARY: In accordance with 37 CFR 404.6 and 404.7, announcement is made of the availability for licensing of the invention described in U.S. Provisional Patent Application No. 60/381,058 entitled “Battlefield Medical Information System-Telemedicine (BMIST),” filed May 15, 2002. The United States Government, as represented by the Secretary of the Army, has rights in this invention.

ADDRESSES: Commander, U.S. Army Medical Research and Materiel Command, Attn: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: The BMIST is a point-of-care First Responder Medic digital medical record, diagnostic tool that allows input, storage and provides preliminary assessment and output of medical information at the point of care.

Luz D. Ortiz,
Army Federal Register Liaison Officer.

[FR Doc. 03-1763 Filed 1-24-03; 8:45 am]

BILLING CODE 3710-08-M